DEPARTMENT OF ENERGY

Federal Energy Regulatory Commission

[Docket No. RP04-590-000]

Trunkline Gas Company, LLC; Notice of Annual Report of Flow Through of Cash Out and Penalty Revenues

September 15, 2004.

Take notice that, on September 13, 2004 Trunkline Gas Company, LLC (Trunkline) tendered for filing its Annual Report of Flow Through of Cash Out and Penalty Revenues.

Trunkline states that this filing is made in accordance with Section 23 of the General Terms and Conditions in Trunkline's FERC Gas Tariff, Third Revised Volume No. 1.

Trunkline further states that copies of this filing were served on all affected customers and applicable State regulatory agencies.

Any person desiring to intervene or to protest this filing must file in accordance with Rules 211 and 214 of the Commission's Rules of Practice and Procedures (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

Copies of this filing are on file with the Commission and are available for public inspection in the Public Reference Room. This filing is also assessable on-line at http://www.ferc.gov, using the “eLibrary” link. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. eastern standard time September 22, 2004.

Linda Mitry,
Acting Secretary.

[FR Doc. E4-2301 Filed 9-21-04; 8:45 am]

BILLING CODE 6717-01-P